DEPARTMENT OF COMMERCE

National Oceanic and Atmospheric Administration

[RTID 0648-XX038]

Fisheries of the Northeastern United States; Bluefish Fishery; Scoping Process

AGENCY: National Marine Fisheries Service (NMFS), National Oceanic and Atmospheric Administration (NOAA), Commerce.

ACTION: Notice; public scoping meetings; requests for comments.

SUMMARY: The Mid-Atlantic Fishery Management Council announces its intent to prepare, in cooperation with the National Marine Fisheries Service and the Atlantic States Marine Fisheries Commission, an amendment to the Atlantic Bluefish Fishery Management Plan. An Environmental Impact Statement may be necessary for the amendment under the National Environmental Policy Act to analyze the impacts of any proposed management measures. The Council has initiated this amendment in order to perform a review of the sector-based allocations, commercial allocations to the states, goals and objectives of the management plan, transfer processes, and develop a rebuilding plan. This notice announces the Council's supplemental public process for determining the scope of issues to be addressed, and for identifying the significant issues related to the bluefish fishery in the Greater Atlantic region. This notice is to alert the interested public of the Council's scoping process, the potential development of a draft Environmental Impact Statement, and to provide for public participation in that process.

DATES: Written comments must be received on or before 11:59 p.m., EST, on Tuesday, March 17, 2020. Eleven supplemental public scoping meetings will be held during this comment period. See Supplementary Information for dates, times, and locations.

ADDRESSES: Written comments may be sent by any of the following methods:

• Email to the following address: nmfs.garbluefishamend@noaa.gov. Include “Bluefish Scoping Comments” in the subject line;

• Mail or hand deliver to Dr. Christopher M. Moore, Executive Director, Mid-Atlantic Fishery Management Council, 800 North State Street, Suite 201, Dover, Delaware 19901. Mark the outside of the envelope “Bluefish Scoping Comments”; or

• Fax to (302) 674-5399.

The scoping document may be obtained from the Council office at the previously provided address, or by request to the Council by telephone (302) 674-2331, or via the internet at http://www.mafmc.org.

Comments may also be provided verbally at any of the eleven supplemental public scoping meetings. See Supplementary Information for dates, times, and locations.

FOR FURTHER INFORMATION CONTACT: Dr. Christopher M. Moore, Mid-Atlantic Fishery Management Council, 800 North State Street, Suite 201, Dover, DE 19901, (telephone 302-674-2331).

SUPPLEMENTARY INFORMATION:

Background

More details on the topics addressed in this supplementary information section may be found in the Bluefish Amendment Scoping Document (see ADDRESSES) and on the bluefish allocation amendment page of the Council's website at http://www.mafmc.org/actions/bluefish-allocation-amendment.

The Council, in cooperation with the Atlantic States Marine Fisheries Commission, has initiated this action in order to (1) update the Bluefish Fishery Management Plan (FMP) goals and objectives for bluefish management; (2) perform a comprehensive review of the bluefish sector allocations, commercial allocations to the states, and transfer processes within the Bluefish FMP; and 3) initiate a bluefish rebuilding plan. Some questions for consideration in this amendment: (1) Are the existing goals and objectives appropriate for managing the bluefish fishery; (2) is the existing allocation between the commercial and recreational sectors based on the annual catch limit appropriate for managing the bluefish fishery; (3) are the existing commercial state allocations appropriate for managing the bluefish fishery; (4) are the existing transfer processes appropriate for managing the bluefish fishery; and (5) what is the appropriate approach to take for rebuilding?

The scoping period is an important opportunity for members of the public to raise concerns related to the issues that will be considered in the amendment. The Council needs your input to identify management issues, develop effective alternatives, and identify possible impacts to be considered. Public comments early in the amendment development process will help the Council address issues of public concern in a thorough and appropriate manner. Comments can be made in writing or during the scoping hearings as described above (see ADDRESSES).

Following the scoping process, the Council will develop a range of management alternatives to be considered and potentially prepare an Environmental Impact Statement (EIS) to analyze the impacts of the management alternatives being considered as required by the National Environmental Policy Act. A draft EIS will be distributed for public review. During a 30-day public comment period which will include public hearings, the public may comment on any aspect of the draft EIS. Following a review of the comments, the Council will then choose preferred management measures for submission with the Final EIS to the Secretary of Commerce to publish a proposed and then final rule. An additional comment period will be available during the rulemaking process.

Scoping Hearings

The Council will take and discuss scoping comments on this amendment at the following eleven supplemental scoping meetings dates and locations:

1. Thursday, February 13, 2020 from 7:30-9 p.m.: Massachusetts Maritime Academy, Admiral's Hall, 101 Academy Drive, Buzzards Bay, MA 02532.

2. Tuesday, February 18, 2020 from 6-8 p.m.: Ocean County Administration Bldg., Rm. 119, 101 Hooper Avenue, Toms River, NJ 08753.

3. Wednesday, February 19, 2020 from 7-8 p.m.: Delaware Dept. of Natural Resources & Environmental Control Auditorium, Richardson & Robbins Building, 89 Kings Highway, Dover, DE 19901.

4. Tuesday, February 25, 2020 from 4:45-6 p.m.: Berlin Library, 13 Harrison Avenue, Berlin, MD 21811.

5. Wednesday, February 26, 2020 from 7:30-9 p.m.: University of Rhode Island Bay Campus, Corless Auditorium, South Ferry Road, Narragansett, RI 02882.

6. Wednesday, February 26, 2020 from 8-9 p.m.: Connecticut Department of Energy and Environmental Protection Marine Headquarters Boating Education Center (Rear Building), 333 Ferry Road, Old Lyme, CT 06371.

7. Thursday, February 27, 2020 from 6-7 p.m.: North Carolina Division of Marine Fisheries Central District Office, 5285 Highway 70 West, Morehead City, NC 28557.

8. Thursday, February 27, 2020 from 7-9 p.m.: Stony Brook University, School of Marine and Atmospheric Sciences, Room 120 Endeavour Hall; Stony Brook, NY 11794.

9. Monday, March 2, 2020 from 6-8 p.m.: Merritt Island Service Center Complex, 2575 N Courtenay Parkway, Room 205, Merritt Island, FL 32953.

10. Monday, March 2, 2020 from 6-7 p.m.: Virginia Marine Resources Commission, 380 Fenwick Road, Building 96, Fort Monroe, VA 23651.

11. Wednesday, March 4, 2020 from 6-7:30 p.m.: Internet webinar accessible at http://mafmc.adobeconnect.com/bf_allocation_rebuilding_scoping/. Audio is available by dialing 1-800-832-0736 and entering room number 5068609.

Special Accommodations

The scoping hearings are accessible to people with disabilities. Requests for sign language interpretation or other auxiliary aid should be directed to M. Jan Saunders (302-674-2331, ext 251) at least 5 days prior to the meeting date.

Authority: 16 U.S.C. 1801 et seq.

Dated: February 3, 2020.
Jennifer M. Wallace,
Acting Director, Office of Sustainable Fisheries, National Marine Fisheries Service.

[FR Doc. 2020-02355 Filed 2-5-20; 8:45 am]

BILLING CODE 3510-22-P